DEPARTMENT OF HEALTH AND HUMAN SERVICES

Centers for Disease Control and Prevention

National Center for Environmental Health/Agency for Toxic Substances and Disease Registry

The Health Department Subcommittee of the Board of Scientific Counselors (BSC), Centers for Disease Control and Prevention (CDC), National Center for Environmental Health (NCEH)/Agency for Toxic Substances and Disease Registry (ATSDR): Teleconference Meeting.

In accordance with section 10(a)(2) of the Federal Advisory Committee Act (Pub. L. 92-463), the Centers for Disease Control and Prevention, NCEH/ATSDR announces the following teleconference meeting of the aforementioned subcommittee:

Times and Dates: 12:30 p.m.-2 p.m., February 12, 2007.

Place: Century Center, 1825 Century Boulevard, Atlanta, Georgia 30345.

Status: Open to the public, teleconference access limited only by availability of telephone ports.

Purpose: Under the charge of the BSC, NCEH/ATSDR, the Health Department Subcommittee will provide the Board with advice and recommendations on local and state health department issues and concerns that pertain to the mandates and mission of NCEH/ATSDR.

Matters to be Discussed: The meeting agenda will include a review of agenda items and approval of minutes; bridging NCEH/ATSDR programs; public comment; and the next steps for the Health Department Subcommittee.

Items are subject to change as priorities dictate.

Supplementary Information: This teleconference meeting is scheduled to begin at 12:30 p.m. Eastern Standard Time. To participate, dial (877) 315-6535 and enter conference code 383520. The public comment period will be held from 1:50 p.m.-2 p.m.

For Further Information Contact: Please contact Shirley D. Little, Committee Management Specialist, NCEH/ATSDR, 1600 Clifton Road, Mail Stop E-28, Atlanta, GA 30303; telephone 404/498-0003, fax 404/498-0059; e-mail: slittle@cdc.gov.

The Director, Management Analysis and Services Office, has been delegated the authority to sign Federal Register notices pertaining to announcements of meetings and other committee management activities for both CDC and the National Center for Environmental Health/Agency for Toxic Substances and Disease Registry.

Dated: December 28, 2006.
Elaine Baker,
Acting Director, Management Analysis and Services Office, Centers for Disease Control and Prevention.

[FR Doc. E6-22585 Filed 1-4-07; 8:45 am]

BILLING CODE 4163-18-P